DEPARTMENT OF COMMERCE

National Oceanic and Atmospheric Administration

[Docket No. 030602141-4268-10]

Call for Proposals for FY 2005 Coastal Services Center Integrated Ocean Observing Systems—Amendment

AGENCY: National Oceanic and Atmospheric Administration (NOAA), National Ocean Service (NOS).

ACTION: Notice.

SUMMARY: The National Ocean Service (NOS) publishes this notice to amend a notice entitled Availability of Grants Funds for Fiscal Year 2005 to make a revision to the NOS FY 2005 Coastal Services Center Integrated Ocean Observing System. NOS amends the notice to broaden an existing funding priority, to extend the due date for all applications to December 1, 2004, and to inform applicants that the maximum total available funding under this announcement is expected to be $5,000,000.

DATES: All applications for projects must be received by the NOAA Coastal Services Center by COB on December 1, 2004.

ADDRESSES: All submissions should be directed to: NOAA Coastal Services Center, Attn: Paul Scholz, 2234 South Hobson Ave., Charleston, SC 29405-2413.

FOR FURTHER INFORMATION CONTACT: Paul Scholz, (843) 740-1208, Paul.Scholz@noaa.gov.

SUPPLEMENTARY INFORMATION: The National Ocean Service published a notice of availability of financial assistance in the Federal Register of June 30, 2004 (69 FR 125), entitled “Availability of Grant Funds for Fiscal Year 2005”. The NOS Coastal Services Center had a Call for Proposals for the Director's office titled, “FY 2005 Coastal Services Center Integrated Ocean Observing System.”

The program amends the June 30, 2004 notice by expanding one of the existing program funding areas. NOS solicits projects that facilitate building partnerships and regional organizational structures for regional observing systems. Because, of agency-wide discussions the Coastal Services Center will consider proposals from seven additional geographical areas. The new geographic areas are: The southeastern U.S., the mid-Atlantic region, the Great Lakes region, the Pacific northwest region, the Alaskan region, the central California region, and the southern California region. In addition, the following represents an increase in the scope of the original announcement—all proposed projects should focus on core coordination activities primarily and build upon core coordination activities for any proposed development of data management, outreach, and other coordination or user needs activities.

NOS also increases the total maximum available funding that is expected under this announcement from $1,000,000 to $5,000,000 dollars depending on congressional appropriation. The Center expects to award eight to eleven grants of $100,000 to $400,000.

To accommodate the added geographical areas and the increased scope of the original geographies, the due date for proposals for all geographical areas is December 1, 2004. The application date for funding for the Pacific Islands, the Northeastern U.S., the northern Gulf of Mexico, and the Caribbean Islands will also be December 1, 2004, since the scope of the projects and proposals has now been broadened. If an applicant has already submitted an application, NOS will accept revisions.

All program requirements published in the June 30, 2004 notice apply to this notice. Full program information and requirements are found in the Federal Funding Opportunity (FFO) which can be found on www.Grants.gov Web site or on the Coastal Services Center Web site http://www.csc.noaa.gov/funding.

(Federal Domestic Assistance Catalog 11.473; Coastal Services Center)

Dated: September 21, 2004.
Jamison S. Hawkins,
Deputy Assistant Administrator, Ocean Services and Coastal Zone Management.

[FR Doc. 04-21566 Filed 9-23-04; 8:45 am]

BILLING CODE 3510-JE-M